DEPARTMENT OF DEFENSE

Corps of Engineers, Department of the Army

Draft Environmental Impact Statement for the Preparation of a Special Area Management Plan and associated 404 Permit Actions for the San Juan Creek and western San Mateo Creek Watersheds, Orange County, CA

AGENCY: Department of Defense, Department of the Army, Corps of Engineers, Los Angeles District Regulatory Branch.

ACTION: Notice of Intent to Prepare a Draft Environmental Impact Statement (DEIS).

SUMMARY: The Corps of Engineers will prepare an EIS on a Special Area Management Plan (SAMP) and associated 404 permit actions in connection with future development, infrastructure maintenance and aquatic resource restoration in the San Juan Creek and western San Mateo Creek watersheds in southern Orange County, California (SAMP study area). The EIS will address impacts of various land development and aquatic resource protection alternatives as set forth below and further identified during the preparation of the SAMP. The SAMP will provide a comprehensive plan for protecting and enhancing aquatic resources while providing for permitting reasonable economic development and public infrastructure in accordance with local land use plans. The SAMP will provide a framework for a long-term programmatic permitting process for projects in the watersheds subject to the Corps of Engineers' permit authority under section 404 of the Clean Water Act regulating the discharge of fill or dredged materials into “waters of the United States.” In addition, the SAMP will include a comprehensive reserve program for the protection, restoration, and management of aquatic resources within the study area.

Information in the EIS will be used to complete the SAMP, and to decide to issue or deny a long-term programmatic 404 permit for specific projects, and criteria for permitting future projects that have not yet been identified. The Corps of Engineers will prepare a joint Environmental Impact Statement/Environmental Impact Report (EIS/EIR) with the California Department of Fish and Game, which must issue other approvals for development in the watersheds that affects watercourses under sections 1601 and 1603 of the State Fish and Game Code.

Public Scoping: The Corps of Engineers invites the participation of affected state, federal, and local agencies and other interested persons in identifying issues of concern that should be addressed in the EIS pursuant to the National Environmental Policy Act (NEPA) and section 404 of the Clean Water Act. Written comments on the scope of the EIS must be submitted to the address below by May 18, 2001. A public scoping meeting to receive input on the scope of the EIS will be conducted on May 8th, 2001 at 6 p.m. at the San Juan Community Center located at 25925 Camino del Avion. This will be a joint scoping meeting to address both the EIS for the SAMP and the EIR for the State Master 1600 Streambed Alteration Agreement.

FOR FURTHER INFORMATION CONTACT: Ms. Fari Tabatabai, Regulatory Branch, CESPL-CO-RS, U.S. Army Corps of Engineers, Los Angeles District, 911 Wilshire Boulevard, Los Angeles, California 90017.

SUPPLEMENTARY INFORMATION:

1.0 Proposed Action

The SAMP study area, San Juan Creek and western San Mateo Creek watershed, is located in southern Orange County. The San Juan Creek watershed encompasses about 176 square miles. There are numerous aquatic resources in the watershed, including creeks, seeps, vernal pools, alkali meadows, freshwater marshes, and riparian wetlands. Western San Mateo Creek watershed is located adjacent to the San Juan Creek watershed and encompasses about 19 square miles. It contains similar environmental conditions. Portions of the study area are developed (i.e. cities of San Juan Capistrano, Mission Viejo, Rancho Santa Margarita, communities of Coto de Caza, Dove Canyon, Trabuco Canyon, Robinson Ranch), while other significant portions of the study area are preserved in open space (Cleveland National Forest, O'Neill Regional Park, Caspers Regional Park). Rancho Mission Viejo is the largest landholding in the SAMP study area and owns the majority of lands in the study area that are not already developed or dedicated as open space.

The SAMP will describe an approach and set of actions to preserve, enhance, and restore aquatic resources, while allowing reasonable and responsible economic activities and development within the study area. The concept of a SAMP was developed by the Corps of Engineers to assist in long-term planning for regulatory actions under Section 404 that involve large areas, complex projects, and valuable aquatic resources.

Key objectives of the SAMP for the San Juan and western San Mateo creeks watersheds include: (1) evaluate the extent and condition of existing aquatic resources; (2) develop a comprehensive management plan and reserve program to preserve and enhance existing aquatic resources including long-term protection of land; and (3) identify and evaluate alternative land development scenarios in the context of the aquatic resource reserve program.

Based on the SAMP, the Corps of Engineers will identify potential areas and/or evaluate proposed activities suitable for coverage using a programmatic permitting process under section 404 of the Clean Water Act. These regulated activities would include residential, commercial, industrial, recreational development; public infrastructure such as roads and utilities; and maintenance of public facilities.

The comprehensive aquatic resource reserve program would accommodate mitigation requirements for contemplated development within the watershed, and other conservation efforts taking place in the watershed under the Natural Community Conservation Program (NCCP). The latter is a comprehensive planning process currently being prepared by the U.S. Fish and Wildlife Service and California Department of Fish and Game, in coordination with local agencies and landowners, to address long-term protection of threatened and endangered species in the Southern Subregion of Orange County. It is anticipated that the nature and location of the aquatic reserve program in the SAMP will be developed in coordination with the NCCP planning efforts.

2.0 Other Involved Agencies

The SAMP will be developed in close coordination with other agencies, including the US Fish and Wildlife Service, California Department of Fish and Game, and US Environmental Protection Agency, National Marine Fisheries Service, Regional Water Quality Control Board, and California Coastal Commission, as necessary. To the extent feasible the SAMP may address water quality issues on a programmatic basis.

The California Department of Fish and Game (Department) will participate in the SAMP process by formulating a Master Streambed Alteration Agreement under section 1600 of the Fish and Game Code for development in the study area that affects drainages subject to the Department's jurisdiction.

The document will be a joint state and federal document. The California Department of Fish and Game will prepare an Environmental Impact Report (EIR) in accordance with the California Environmental Quality Act for the actions described in the SAMP. A separate Notice of Preparation will be prepared and published by the Department. The Corps and the Department will work cooperatively to prepare a joint EIS/EIR document, and to coordinate the public noticing and hearing processes under state and federal laws.

3.0 EIS Alternatives

The Corps of Engineers has identified the following alternatives to be addressed in the EIS. Other alternatives or variations of alternatives may be studied based on input during public scoping and the results of the EIS studies.

1. No Project Alternative—No land development and no SAMP directly impacting “waters of the United States”. Current land uses, including agriculture operations and resource extraction on Rancho Mission Viejo, would continue indefinitely.

2. No SAMP Alternative—Land development according to existing or future zoning without a SAMP and programmatic 404 permit. Under this alternative, development would proceed in accordance with existing agricultural zoning or future zoning. Projects subject to the requirements of section 404 of the Clean Water Act and Section 1600 of the Fish and Game Code would be permitted on an individual basis. No comprehensive and coordinated approach to aquatic resource protection would occur.

3. SAMP Alternative based the OCP-2000. A watershed-wide aquatic resource reserve program would be developed to preserve, enhance, and restore aquatic resources. Land uses projected in Orange County Projections-2000 for Rancho Mission Viejo would be implemented. A programmatic section 404 permit would be issued for specific projects and permitting criteria for future projects would be established pursuant to the requirements of the section 404 of the Clean Water Act.

4. SAMP Alternative based on Other Land Use Scenarios. A watershed-wide aquatic resource reserve program would be developed to preserve, enhance, and restore aquatic resources. One or more land use development plan would be developed under this alternative consistent with the goals and objectives of the SAMP. Programmatic section 404 permits would be issued for specific projects, and permitting criteria for future projects would be established.

The EIS would also address methods and institutional arrangements for aquatic resource reserve management.

4.0 Key Environmental Issues

The EIS will address impacts associated with future land development in the watersheds and actions to protect aquatic resources, as identified in the SAMP. They key environmental impacts to be addressed in the EIS are listed below:

• Aquatic resources—potential effects of proposed land use alternatives on the functional integrity and extent of aquatic resources due to altered biological, hydrological, and water quality conditions in the study area. Indirect impacts of land development and human activities in close proximity to aquatic resources will also be addressed.

• Water quality—potential effects on the quality of surface and ground water due to construction activities in the watersheds, and due to urban stormwater runoff associated with future development.

• Threatened and endangered species—potential adverse impacts on listed aquatic dependent species, including, but not limited to, arroyo toad, San Diego fairy shrimp, and least Bell's vireo. A Section 7 endangered species consultation will be conducted with the US Fish and Wildlife Service for potential impacts to listed species and designated critical habitat for the least Bell's vireo and arroyo toad. Potential impacts on the endangered California gnatcatcher habitat will be addressed.

• Cultural Resources—potential impacts on archaeological, ethnographic, paleontologic, and historic resources. The Corps of Engineers will comply with the consultation requirements under Section 106 of the National Historic Preservation Act.

5.0 Schedule

A Draft EIS is expected to be issued for public review in Spring 2002.

Dated: April 9, 2001.
John P. Carroll,
Colonel, Corps of Engineers, District Engineer.

[FR Doc. 01-9659 Filed 4-18-01; 8:45 am]

BILLING CODE 3710-KF-M